DEPARTMENT OF ENERGY

Federal Energy Regulatory Commission

Combined Notice of Filings #1

Take notice that the Commission received the following electric rate filings:

Docket Numbers: ER20-413-000.

Applicants: CalPeak Power—Vaca Dixon LLC.

Description: § 205(d) Rate Filing: Normal 2019 to be effective 11/20/2019.

Filed Date: 11/19/19.

Accession Number: 20191119-5128.

Comments Due: 5 p.m. ET 12/10/19.

Docket Numbers: ER20-414-000.

Applicants: CalPeak Power—Enterprise LLC.

Description: § 205(d) Rate Filing: Normal 2019 to be effective 11/20/2019.

Filed Date: 11/19/19.

Accession Number: 20191119-5130.

Comments Due: 5 p.m. ET 12/10/19.

Docket Numbers: ER20-415-000.

Applicants: CalPeak Power—Panoche LLC.

Description: § 205(d) Rate Filing: Normal 2019 to be effective 11/20/2019.

Filed Date: 11/19/19.

Accession Number: 20191119-5134.

Comments Due: 5 p.m. ET 12/10/19.

Docket Numbers: ER20-416-000.

Applicants: Southwest Power Pool, Inc.

Description: § 205(d) Rate Filing: 2827R5 KPP and Evergy Kansas Central Meter Agent Agreement to be effective 11/1/2019.

Filed Date: 11/19/19.

Accession Number: 20191119-5141.

Comments Due: 5 p.m. ET 12/10/19.

Docket Numbers: ER20-417-000.

Applicants: Southwest Power Pool, Inc.

Description: § 205(d) Rate Filing: 2855R5 KMEA and Evergy Metro Meter Agent Agreement to be effective 11/1/2019.

Filed Date: 11/19/19.

Accession Number: 20191119-5145.

Comments Due: 5 p.m. ET 12/10/19.

Docket Numbers: ER20-418-000.

Applicants: Southwest Power Pool, Inc.

Description: § 205(d) Rate Filing: Revisions to Unbundle Schedule 1-A Tariff Administration Services to be effective 1/1/2021.

Filed Date: 11/19/19.

Accession Number: 20191119-5149.

Comments Due: 5 p.m. ET 12/10/19.

Docket Numbers: ER20-419-000.

Applicants: ITC Midwest LLC.

Description: § 205(d) Rate Filing: Filing of CIAC Agreement with Northern States to be effective 1/19/2020.

Filed Date: 11/19/19.

Accession Number: 20191119-5150.

Comments Due: 5 p.m. ET 12/10/19.

Docket Numbers: ER20-420-000.

Applicants: Midcontinent Independent System Operator, Inc.

Description: § 205(d) Rate Filing: 2019-11-20_SA 3375 Entergy Arkansas-Searcy Solar GIA (J893) to be effective 11/5/2019.

Filed Date: 11/20/19.

Accession Number: 20191120-5005.

Comments Due: 5 p.m. ET 12/11/19.

Docket Numbers: ER20-421-000.

Applicants: Montana-Dakota Utilities Co.

Description: Compliance filing: Compliance Filing to Revise Montana Dakota Utilities Market Based Rate Tariff to be effective 10/31/2019.

Filed Date: 11/20/19.

Accession Number: 20191120-5029.

Comments Due: 5 p.m. ET 12/11/19.

Docket Numbers: ER20-422-000.

Applicants: FL Solar 1, LLC.

Description: Baseline eTariff Filing: Application for Market Based Rate to be effective 11/21/2019.

Filed Date: 11/20/19.

Accession Number: 20191120-5037.

Comments Due: 5 p.m. ET 12/11/19.

Docket Numbers: ER20-423-000.

Applicants: Energy Unlimited, Inc.

Description: Tariff Cancellation: Energy Unlimited, Inc. Notice of Cancellation to be effective 12/1/2019.

Filed Date: 11/20/19.

Accession Number: 20191120-5060.

Comments Due: 5 p.m. ET 12/11/19.

Docket Numbers: ER20-424-000.

Applicants: Midcontinent Independent System Operator, Inc.

Description: § 205(d) Rate Filing: 2019-11-20_SA 1212 ITC Midwest-FPL Energy 2nd Rev GIA (G056) to be effective 11/4/2019.

Filed Date: 11/20/19.

Accession Number: 20191120-5071.

Comments Due: 5 p.m. ET 12/11/19.

Docket Numbers: ER20-425-000.

Applicants: American Municipal Power, Inc.

Description: Compliance filing: EL18-181 eTariff Settlement Compliance Filing to be effective 7/1/2018.

Filed Date: 11/20/19.

Accession Number: 20191120-5075.

Comments Due: 5 p.m. ET 12/11/19.

Docket Numbers: ER20-426-000.

Applicants: Energy Alternatives Wholesale, LLC.

Description: Tariff Cancellation: Notice of Cancellation to be effective 11/21/2019.

Filed Date: 11/20/19.

Accession Number: 20191120-5096.

Comments Due: 5 p.m. ET 12/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2019.
Nathaniel J. Davis, Sr.,
Deputy Secretary.

[FR Doc. 2019-25628 Filed 11-25-19; 8:45 am]

BILLING CODE 6717-01-P